DEPARTMENT OF DEFENSE

Department of the Navy

Notice of Public Meetings for the Proposed Naval Base Coronado Coastal Campus Draft Environmental Impact Statement, California

AGENCY: Department of the Navy, DoD.

ACTION: Notice.

SUMMARY: Pursuant to Section 102(2)(C) of the National Environmental Policy Act of 1969 and regulations implemented by the Council on Environmental Quality (40 Code of Federal Regulations parts 1500-1508), the Department of the Navy (DoN) has prepared and filed with the U.S. Environmental Protection Agency, a Draft Environmental Impact Statement (EIS) evaluating the potential environmental effects of constructing, operating, and maintaining an academic campus on Naval Base Coronado (NBC) to support the operational readiness of Naval Special Warfare Command (NSWC) personnel.

With the filing of the Draft EIS, the DoN is initiating a 60-day public comment period beginning on July 25, 2014 and ending on September 22, 2014. During this period, the DoN will conduct two public meetings to receive oral and written comments on the Draft EIS. This notice announces the dates and locations of the public meetings and provides supplementary information about this environmental planning effort.

Dates and Addresses: Public information and comment meetings will be held in Imperial Beach and Coronado, California between 5:00 p.m. to 8:00 p.m. on the following dates and at the following locations:

1. August 13, 2014, Marina Vista Community Center, 1075 Eighth Street, Imperial Beach, California 91932.

2. August 14, 2014, Winn Room, Coronado Public Library, 640 Orange Avenue, Coronado, California 92118.

Additional information concerning meeting times and locations is available on the EIS Web site (http://www.nbccoastalcampuseis.com) and through local news media.

Federal, state, and local agencies and officials, and interested groups and individuals, are encouraged to provide comments during the public comment period, in person at the public meetings (orally or in writing), or in writing online at http://www.nbccoastalcampuseis.com or via the U.S. Postal Service. Comments will not be accepted through social media. Written comments on the Draft EIS should be postmarked or received (online) no later than September 22, 2014, to ensure they become part of the official record. Equal weight will be given to oral and written statements.

For Mailing Written Comments and Further Information Contact: NBC Coastal Campus EIS Project Manager (Attn: Ms. Teresa Bresler), 2730 McKean Street, Building 291, San Diego, California 92136.

SUPPLEMENTARY INFORMATION: A Notice of Intent to prepare this Draft EIS was published in the Federal Register on June 29, 2012 (77 FR 38781). Scoping meetings were held on July 17 and 18, 2012. The scoping period concluded on August 14, 2012, following a 15-day extension of the scoping period that was announced on July 31, 2012 (77 FR 45345). Comments received during the public scoping period were considered during preparation of the Draft EIS.

The proposed NBC Coastal Campus would involve the construction, operation, and maintenance of an academic campus at Silver Strand Training Complex-South (SSTC-South), San Diego, California. The proposed campus would be comprised of 1.5 million square feet of space to include a mix of instructional and administrative facilities supporting logistics, operations, training, and administration. Implementation of the proposed action would occur over a 10-year period.

The purpose of this action is to: (1) Provide logistics and operational support buildings, classrooms, storage and administrative facilities to accommodate growth of NSWC on the west coast; and, (2) maintain Congressionally-mandated increased training and operational readiness requirements for NSWC. However, the current NSWC operational support, classroom and tactical skills instruction and administrative facilities, primarily located at Naval Amphibious Base (NAB) Coronado, are inadequate to meet mission requirements. Moreover, expansion potential at that location is limited. Therefore, the proposed action would meet the needs of NSWC by optimizing the use of space within the existing NBC footprint, thereby allowing NSWC to support fluctuating organizational structure and mandated mission requirements.

In addition to the no action alternative, three development alternatives are evaluated in the Draft EIS. Alternative 1 (SSTC-South Bunker Demolition Alternative) would consolidate NSWC facilities at one location on SSTC-South. This alternative would include design and construction of logistical support buildings, equipment use and maintenance training facilities, classroom and tactical skills instruction buildings, storage and administrative facilities, utilities, fencing, roads, and parking. A new controlled entry point would provide immediate access to/from State Route 75 and a historic bunker would be demolished to facilitate campus construction. Alternative 2 (SSTC-South Bunker Retention Alternative) would include all the components of Alternative 1 within the same footprint but would include retention of the historic bunker, thereby resulting in a smaller developable footprint. Alternative 3 (Multi-Installation Alternative) would site necessary NSWC facilities at more than one location to include NAB Coronado and Naval Air Station North Island, in addition to SSTC-South. This alternative would include retention of the historic bunker similar to Alternative 2.

The Draft EIS contains a comprehensive analysis of the potential environmental impacts of the Proposed Action, including impacts on land use and recreation, geology and soils, air quality, hazardous materials and waste, water quality and hydrology, noise, biological resources, cultural resources, traffic and circulation, socioeconomics and environmental justice, public health and safety, utilities and public services, coastal uses and resources, and aesthetics.

The Draft EIS was distributed to Federal, state, and local agencies, elected officials, and other interested individuals and organizations. Copies of the Draft EIS are available for public review at the following libraries:

1. Coronado Public Library, 640 Orange Avenue, Coronado, California 92118.

2. Imperial Beach Library, 810 Imperial Beach Boulevard, Imperial Beach, California 91932.

3. City of San Diego Central Library, 330 Park Boulevard, San Diego, California 92101.

An electronic copy of the Draft EIS is available for viewing or downloading at http://www.nbccoastalcampuseis.com. A paper copy of the Executive Summary or a single compact disc of the Draft EIS will be made available upon written request.

Dated: July 21, 2014.
N. A. Hagerty-Ford,
Commander, Office of the Judge Advocate General, U.S. Navy, Federal Register Liaison Officer.

[FR Doc. 2014-17581 Filed 7-24-14; 8:45 am]

BILLING CODE 3810-FF-P